DEPARTMENT OF HEALTH AND HUMAN SERVICES

Health Resources and Services Administration

Agency Information Collection Activities: Submission to OMB for Review and Approval; Public Comment Request; Evaluation and Assessment of HRSA Teaching Health Centers

AGENCY: Health Resources and Services Administration (HRSA), Department of Health and Human Services (HHS).

ACTION: Notice.

SUMMARY: In compliance with Section 3507(a)(1)(D) of the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than January 27, 2017.

ADDRESSES: Submit your comments, including the ICR Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Evaluation and Assessment of HRSA Teaching Health Centers.

OMB No. 0915-0376—Extension.

Abstract: The Teaching Health Center Graduate Medical Education (THCGME) program supports new and the expansion of existing primary care residency training programs in community-based settings. The primary goals of the THCGME program are to increase the production of primary care doctors and dentists who are well prepared to practice in community settings, particularly with underserved populations, and to improve the overall number and geographic distribution of primary care providers.

Need and Proposed Use of the Information: To ensure these goals are achieved, the George Washington University (GW) is conducting an evaluation of the training, administrative and organizational structures, clinical service, challenges, innovations, costs associated with training, and outcomes of Teaching Health Centers (THCs). GW has developed questionnaires for implementation with all THC matriculating residents, graduating residents, and graduated residents at one year post-graduation. The matriculation questionnaire aims to collect background information on THC residents to better understand the characteristics of individuals who apply and are accepted to THC programs. The graduation questionnaire collects information on career plans. The alumni questionnaire collects information on career outcomes (including practice in primary care and in underserved settings) following graduation as well as feedback on the quality of training.

Statute requires that THCGME program award recipients report annually on the types of primary care resident approved training programs provided, the number of approved training positions, the number who completed their residency at the end of the prior academic year and care for vulnerable populations living in underserved areas, and any other information as deemed appropriate by the Secretary. The described data collection activities will serve to meet this statutory requirement for the THCGME program award recipients in a uniform and consistent manner and will allow comparisons of this group to other trainees in non-THC programs. HRSA seeks renewal of these measures with no changes.

Likely Respondents: This data collection includes documents that are completed separately by THC Program Directors and residents. THC Program Directors who have not already completed the program data collection tool will respond to the part of the data collection tool related to the characteristics of the programs. Annual updates are made on an as-needed basis. THC matriculating residents, graduating residents and graduated residents at one year post-graduation will respond to the questionnaires related to characteristics of the residents.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Program Data Collection Tool | 10 | 1 | 10 | 8 | 80
THC Alumni Survey | 200 | 1 | 200 | 0.33 | 66
THC Matriculant Survey | 200 | 1 | 200 | 0.25 | 50
THC Graduation Survey | 200 | 1 | 200 | 0.25 | 50
Total | 610 |  | 610 |  | 246

Jason E. Bennett,
Director, Division of the Executive Secretariat.

[FR Doc. 2016-31353 Filed 12-27-16; 8:45 am]

BILLING CODE 4165-15-P